DEPARTMENT OF EDUCATION

Applications for New Awards; Native Hawaiian Education Program

AGENCY: Office of Elementary and Secondary Education, Department of Education.

ACTION: Notice.

SUMMARY: The Department of Education (Department) is issuing a notice inviting applications for fiscal year (FY) 2021 for the Native Hawaiian Education (NHE) program, Assistance Listing Number 84.362A. This is the first grant competition for this program under section 11006(2) of the American Rescue Plan (ARP) Act of 2021. This notice relates to the approved information collection under OMB control number 1894-0006.

DATES:

Applications Available: May 28, 2021.

Deadline for Transmittal of Applications: July 2, 2021.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Joanne Osborne, U.S. Department of Education, 400 Maryland Avenue SW, room 3E306, Washington, DC 20202. Telephone: (202) 401-1265. Email: Hawaiian@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the NHE program is to support innovative projects that recognize and address the unique educational needs of Native Hawaiians. The ARP Act provides an additional $85 million to support Native Hawaiians and Native Hawaiian communities that have been significantly impacted by the novel coronavirus disease (COVID-19) pandemic by funding innovative projects that are distinct from the projects previously funded under the NHE program. These projects must include one or more of the activities authorized under section 6205(a)(3) of the Elementary and Secondary Education Act of 1965, as amended (ESEA). New grantees may propose projects that address current needs in the Native Hawaiian community in connection with the COVID-19 pandemic. Existing grantees may propose either new projects to address newly identified needs in response to COVID-19 or projects that build on and leverage current NHE-funded activities to address the additional impacts of COVID-19.

Although there are many types of activities authorized under section 6205(a)(3) of the ESEA, NHE ARP program funding may not be used for the acquisition of real property or construction under 34 CFR 75.533. However, this general prohibition on construction and acquisition of real property does not extend to activities that meet the definition of “minor remodeling” under 34 CFR 77.1. For more information, see the Funding Restrictions section of this notice.

Background: The NHE program traditionally serves the unique educational needs of Native Hawaiians and recognizes the roles of Native Hawaiian languages and cultures in the educational success and long-term well-being of Native Hawaiian students. The program supports effective supplemental education programs that maximize participation of Native Hawaiian educators and leaders in the planning, development, implementation, management, and evaluation of programs designed to serve Native Hawaiians. Funding is provided in the ARP Act for awards to NHE-eligible entities for the NHE activities authorized under section 6205(a)(3) of the ESEA with the purpose of supporting educational opportunities for Native Hawaiians who, and Native Hawaiian communities that, have been significantly impacted by the COVID-19 pandemic.

In order to target projects that will leverage the additional NHE ARP funding, the Department is establishing two distinct priorities. Applicants must address one of the two absolute priorities. Applicants have the option, under Absolute Priority 1, to propose to fund activities authorized under section 6205(a)(3) of the ESEA. The Department will award multiple grants under Absolute Priority 1. In contrast, the Department will award only one grant under Absolute Priority 2. Absolute Priority 2 solicits applications that adopt a statewide approach to addressing the unique educational needs of Native Hawaiians through a focus on the collection of data to inform research on the educational status and needs of Native Hawaiian children and adults. Absolute Priority 2 solicits applications for activities currently allowed under section 6205(a)(3) of the ESEA but expands the priority to focus on a statewide approach to the allowable activities.

Each absolute priority supports identified needs in the Native Hawaiian community. Absolute Priority 1 allows for multiple local or regional grants to be funded consistent with previous NHE grant competitions. Through Absolute Priority 2, the Department intends to expand statewide research and data collection activities to better determine the educational status and needs of Native Hawaiian children and adults.

Priorities: This notice contains two absolute priorities. Consistent with 34 CFR 75.105(b)(2)(v), Absolute Priority 1 is from the activities authorized by section 6205(a)(3) of the ESEA. We are establishing Absolute Priority 2 for the FY 2021 grant competition and any subsequent year in which we make awards from the list of unfunded applications from this competition, in accordance with section 437(d)(1) of the General Education Provisions Act (GEPA), 20 U.S.C. 1232(d)(1).

Each applicant must address only one absolute priority. In the FY 2021 NHE grant competition, Absolute Priorities 1-2 constitute their own funding categories. The Secretary intends to award multiple grants under Absolute Priority 1 and one grant under Absolute Priority 2, provided that applications of sufficient quality are submitted. If an entity is interested in proposing two separate projects (e.g., one that addresses Absolute Priority 1 and another that addresses Absolute Priority 2), it must submit a separate application for each project.

Absolute Priorities: For FY 2021 and any subsequent year in which we make awards from the list of unfunded applications from this competition, these priorities are absolute priorities. Under 34 CFR 75.105(c)(3), we consider only applications that address one of Absolute Priority 1 or Absolute Priority 2. The absolute priority addressed must be clearly noted in the Project Abstract section of the application. Applications that address Absolute Priority 1 must clearly identify which part or parts of the priority the project will address.

These priorities are:

Absolute Priority 1: Native Hawaiian Education Activities.

Projects that address one or more of the following authorized activities pursuant to section 6205(a)(3) of the ESEA:

(a) The development and maintenance of a statewide Native Hawaiian early education and care system to provide a continuum of services for Native Hawaiian children from the prenatal period of the children through age 5.

(b) The operation of family-based education centers that provide such services as—

(i) Programs for Native Hawaiian parents and their infants from the prenatal period of the infants through age 3;

(ii) Preschool programs for Native Hawaiians; and

(iii) Research on, and development and assessment of, family-based, early childhood, and preschool programs for Native Hawaiians.

(c) Activities that enhance beginning reading and literacy in either the Hawaiian or the English language among Native Hawaiian students in kindergarten through grade 3 and assistance in addressing the distinct features of combined English and Hawaiian literacy for Hawaiian speakers in grades 5 and 6.

(d) Activities to meet the special needs of Native Hawaiian students with disabilities, including—

(i) The identification of such students and their needs;

(ii) The provision of support services to the families of such students; and

(iii) Other activities consistent with the requirements of the Individuals with Disabilities Education Act.

(e) Activities that address the special needs of Native Hawaiian students who are gifted and talented, including—

(i) Educational, psychological, and developmental activities designed to assist in the educational progress of those students; and

(ii) Activities that involve the parents of those students in a manner designed to assist in the educational progress of such students.

(f) The development of academic and vocational curricula to address the needs of Native Hawaiian children and adults, including curriculum materials in the Hawaiian language and mathematics and science curricula that incorporate Native Hawaiian tradition and culture.

(g) Professional development activities for educators, including—

(i) The development of programs to prepare prospective teachers to address the unique needs of Native Hawaiian students within the context of Native Hawaiian culture, language, and traditions;

(ii) In-service programs to improve the ability of teachers who teach in schools with high concentrations of Native Hawaiian students to meet the unique needs of such students; and

(iii) The recruitment and preparation of Native Hawaiians, and other individuals who live in communities with a high concentration of Native Hawaiians, to become teachers.

(h) The operation of community-based learning centers that address the needs of Native Hawaiian students, parents, families, and communities through the coordination of public and private programs and services, including—

(i) Early childhood education programs;

(ii) Before, after, and summer school programs, expanded learning time, or weekend academies;

(iii) Career and technical education programs; and

(iv) Programs that recognize and support the unique cultural and educational needs of Native Hawaiian children, and incorporate appropriately qualified Native Hawaiian elders and seniors.

(i) Activities, including program co-location, to enable Native Hawaiians to enter and complete programs of postsecondary education, including—

(i) Family literacy services; and

(ii) Counseling, guidance, and support services for students.

(j) Research and data collection activities to determine the educational status and needs of Native Hawaiian children and adults.

(k) Other research and evaluation activities related to programs carried out under title VI, part B of the ESEA.

(l) Other activities, consistent with the purposes of title VI, part B of the ESEA, to meet the educational needs of Native Hawaiian children and adults.

Absolute Priority 2: Research and Data Collection Activities.

Statewide projects that propose research and data collection activities to determine the educational status and needs of Native Hawaiian children and adults.

Definitions: The definitions below are from 34 CFR 77.1(c) and sections 4310(2), 6207, and 8101 of the ESEA. These definitions apply to the FY 2021 grant competition and any subsequent year in which we make awards from the list of unfunded applications from this competition.

Charter school means a public school that—

(a) In accordance with a specific State statute authorizing the granting of charters to schools, is exempt from significant State or local rules that inhibit the flexible operation and management of public schools, but not from any rules relating to the other requirements of this definition;

(b) Is created by a developer as a public school, or is adapted by a developer from an existing public school, and is operated under public supervision and direction;

(c) Operates in pursuit of a specific set of educational objectives determined by the school's developer and agreed to by the authorized public chartering agency;

(d) Provides a program of elementary or secondary education, or both;

(e) Is nonsectarian in its programs, admissions policies, employment practices, and all other operations, and is not affiliated with a sectarian school or religious institution;

(f) Does not charge tuition;

(g) Complies with the Age Discrimination Act of 1975, title VI of the Civil Rights Act of 1964, title IX of the Education Amendments of 1972, section 504 of the Rehabilitation Act of 1973, the Americans with Disabilities Act of 1990 (42 U.S.C. 12101 et seq.), section 444 of the General Education Provisions Act (20 U.S.C. 1232g) (commonly referred to as the “Family Educational Rights and Privacy Act of 1974”), and part B of the Individuals with Disabilities Education Act;

(h) Is a school to which parents choose to send their children, and that (1) admits students on the basis of a lottery, consistent with section 4303(c)(3)(A) of the ESEA, if more students apply for admission than can be accommodated; or (2) in the case of a school that has an affiliated charter school (such as a school that is part of the same network of schools), automatically enrolls students who are enrolled in the immediate prior grade level of the affiliated charter school and, for any additional student openings or student openings created through regular attrition in student enrollment in the affiliated charter school and the enrolling school, admits students on the basis of a lottery as described in clause (i);

(i) Agrees to comply with the same Federal and State audit requirements as do other elementary schools and secondary schools in the State, unless such State audit requirements are waived by the State;

(j) Meets all applicable Federal, State, and local health and safety requirements;

(k) Operates in accordance with State law;

(l) Has a written performance contract with the authorized public chartering agency in the State that includes a description of how student performance will be measured in charter schools pursuant to State assessments that are required of other schools and pursuant to any other assessments mutually agreeable to the authorized public chartering agency and the charter school; and

(m) May serve students in early childhood education programs or postsecondary students. (Section 4310(2) of the ESEA)

Demonstrates a rationale means a key project component included in the project's logic model is informed by research or evaluation findings that suggest the project component is likely to improve relevant outcomes. (34 CFR 77.1(c))

Logic model (also referred to as a theory of action) means a framework that identifies key project components of the proposed project (i.e., the active “ingredients” that are hypothesized to be critical to achieving the relevant outcomes) and describes the theoretical and operational relationships among the key project components and relevant outcomes. (34 CFR 77.1(c))

Native Hawaiian means any individual who is—

(a) A citizen of the United States; and

(b) A descendant of the aboriginal people who, prior to 1778, occupied and exercised sovereignty in the area that now comprises the State of Hawaii, as evidenced by—

(1) Genealogical records;

(2) Kupuna (elders) or Kamaaina (long-term community residents) verification; or

(3) Certified birth records. (Section 6207(2) of the ESEA)

Native Hawaiian community-based organization means any organization that is composed primarily of Native Hawaiians from a specific community and that assists in the social, cultural, and educational development of Native Hawaiians in that community. (Section 6207(3) of the ESEA)

Native Hawaiian educational organization means a private nonprofit organization that—

(a) Serves the interests of Native Hawaiians;

(b) Has Native Hawaiians in substantive and policymaking positions within the organization;

(c) Incorporates Native Hawaiian perspective, values, language, culture, and traditions into the core function of the organization;

(d) Has demonstrated expertise in the education of Native Hawaiian youth; and

(e) Has demonstrated expertise in research and program development. (Section 6207(4) of the ESEA)

Native Hawaiian language means the single Native American language indigenous to the original inhabitants of the State of Hawaii. (Section 6207(5) of the ESEA)

Project component means an activity, strategy, intervention, process, product, practice, or policy included in a project. Evidence may pertain to an individual project component or to a combination of project components (e.g., training teachers on instructional practices for English learners and follow-on coaching for these teachers). (34 CFR 77.1(c))

Regular high school diploma (a) means the standard high school diploma awarded to the preponderance of students in the State that is fully aligned with State standards, or a higher diploma, except that a regular high school diploma shall not be aligned to the alternate academic achievement standards described in ESEA section 1111(b)(1)(E); and (b) does not include a recognized equivalent of a diploma, such as a general equivalency diploma, certificate of completion, certificate of attendance, or similar lesser credential. (Section 8101(43) of the ESEA)

Relevant outcome means the student outcome(s) or other outcome(s) the key project component is designed to improve, consistent with the specific goals of the program. (34 CFR 77.1(c))

Application Requirement: In order to ensure consistency across all NHE programs, we are establishing the following application requirement for the FY 2021 grant competition and any subsequent year in which we make awards from the list of unfunded applications from this competition, in accordance with section 437(d)(1) of GEPA, 20 U.S.C. 1232(d)(1): Each applicant for a grant under this program must submit the application for comment to the local educational agency (LEA) serving students who will participate in the program to be carried out under the grant (i.e., Hawaii State Department of Education), and include those comments, if any, with the application to the Secretary.

Program Requirement: In order to ensure consistency across all NHE programs, we are establishing the following program requirement for the FY 2021 grant competition and any subsequent year in which we make awards from the list of unfunded applications from this competition, in accordance with section 437(d)(1) of GEPA, 20 U.S.C. 1232(d)(1):

No more than five percent of funds awarded for a grant under this program may be used for administrative costs. This five-percent limit does not include indirect costs.

Waiver of Proposed Rulemaking: Under the Administrative Procedure Act (5 U.S.C. 553), the Department generally offers interested parties the opportunity to comment on proposed priorities and requirements. Section 437(d)(1) of GEPA, however, allows the Secretary to exempt from rulemaking requirements regulations governing the first grant competition under a new or substantially revised program authority. This is the first grant competition for this program under section 11006(2) of the ARP Act and therefore qualifies for this exemption. In order to ensure timely grant awards, the Secretary has decided to forgo public comment on Absolute Priority 2, the application requirement, and the program requirement under section 437(d)(1) of GEPA. These priorities and requirements will apply to the FY 2021 grant competition and any subsequent year in which we make awards from the list of unfunded applications from this competition.

Program Authority: Section 11006(2) of the ARP Act and section 6205 of the ESEA (20 U.S.C. 7515).

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 86 apply to institutions of higher education only.

II. Award Information

Type of Award: Discretionary grants.

Estimated Available Funds: $85,000,000 for three years.

Estimated Range of Awards:

(1) Absolute Priority 1: Authorized Native Hawaiian Education Activities: $250,000—$950,000 for each 12-month budget period.

(2) Absolute Priority 2: Research and Data Collection Activities: $1,000,000—$3,000,000 for each 12-month budget period.

Estimated Average Size of Awards:

(1) Absolute Priority 1: Authorized Native Hawaiian Education Activities: $750,000 for each 12-month budget period.

(2) Absolute Priority 2: Research and Data Collection Activities: $2,000,000 for each 12-month budget period.

Estimated Number of Awards: 36.

Note: The Department is not bound by any estimates in this notice.

Project Period: Up to 36 months.

III. Eligibility Information

1. Eligible Applicants: The following entities are eligible to apply under this competition:

(a) Native Hawaiian educational organizations.

(b) Native Hawaiian community-based organizations.

(c) Public and private nonprofit organizations, agencies, and institutions with experience in developing or operating Native Hawaiian programs or programs of instruction in the Native Hawaiian language.

(d) Charter schools.

(e) Consortia of the organizations, agencies, and institutions described in paragraphs (a) through (c).

Note: Although State educational agencies (SEAs) and LEAs are not eligible entities, applicants are encouraged to partner and coordinate with an SEA or LEA in proposing and implementing a project. In addition, all applicants must meet the application requirement to solicit comments on the proposed project from the LEA and submit those comments, if any, with the application.

2. a. Cost Sharing or Matching: This program does not require cost sharing or matching.

b. Indirect Cost Rate Information: This program uses an unrestricted indirect cost rate. For more information regarding indirect costs, or to obtain a negotiated indirect cost rate, please see www2.ed.gov/about/offices/list/ocfo/intro.html.

c. Administrative Cost Limitation: No more than five percent of funds awarded for a grant under this program may be used for administrative costs. This five-percent limit does not include indirect costs.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Submission of Proprietary Information: Given the types of projects that may be proposed in applications for the NHE program, your application may include business information that you consider proprietary. In 34 CFR 5.11, we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This program is not subject to Executive Order 12372 and the regulations in 34 CFR part 79.

4. Funding Restrictions: As previously noted, NHE ARP program funding may not be used for the acquisition of real property or construction under 34 CFR 75.533. However, this general prohibition on construction and acquisition of real property does not extend to activities that meet the definition of “minor remodeling” under 34 CFR 77.1. Examples of permissible “minor remodeling” that ARP funds may support include minor alterations in a previously completed building, for purposes associated with the COVID-19 pandemic. The term does not include permanent building construction, structural alternations to buildings, building maintenance, or repairs. Some examples of permissible minor remodeling, under most circumstances, could include, but are not limited to the installation or renovation of an HVAC system to help with air filtration to prevent the spread of COVID-19, the purchase or lease of temporary trailer classroom units to increase social distancing, and the purchase or costs of the installation of “room dividers” within a previously completed building to increase social distancing.

We reference regulations outlining additional funding restrictions in the Applicable Regulations and Administrative Cost Limitation sections of this notice.

5. Recommended Page Limit: The application narrative is where you, the applicant, address the selection criteria that reviewers use to evaluate your application. We recommend that you (1) limit the application narrative to no more than 30 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

V. Application Review Information

1. Selection Criteria: The selection criteria for this competition are from 34 CFR 75.210. The maximum score for all of the selection criteria is 100 points. The maximum score for each criterion is included in parentheses following the title of the specific selection criterion. Each criterion also includes the factors that reviewers will consider in determining the extent to which an applicant meets the criterion.

The selection criteria are as follows:

(a) Need for project (up to 10 points).

(1) The Secretary considers the need for the proposed project.

(2) In determining the need for the proposed project, the Secretary considers the extent to which specific gaps or weaknesses in services, infrastructure, or opportunities have been identified and will be addressed by the proposed project, including the nature and magnitude of those gaps or weaknesses.

(b) Quality of the project design (up to 30 points).

(1) The Secretary considers the quality of the design of the proposed project.

(2) In determining the quality of the design of the proposed project, the Secretary considers the extent to which the proposed project demonstrates a rationale (as defined in this notice).

(c) Quality of project personnel (up to 10 points).

(1) The Secretary considers the quality of the personnel who will carry out the proposed project.

(2) In determining the quality of project personnel, the Secretary considers the extent to which the applicant encourages applications for employment from persons who are members of groups that have been traditionally underrepresented based on race, color, national origin, gender, age, or disability (up to 5 points).

(3) In addition, the Secretary considers the qualifications, including relevant training and experience, of key project personnel (up to 5 points).

(d) Quality of the management plan (up to 30 points).

(1) The Secretary considers the quality of the management plan for the proposed project.

(2) In determining the quality of the management plan for the proposed project, the Secretary considers the adequacy of the management plan to achieve the objectives of the proposed project on time and within budget, including clearly defined responsibilities, timelines, and milestones for accomplishing project tasks.

(e) Quality of the project evaluation (up to 20 points).

(1) The Secretary considers the quality of the evaluation to be conducted of the proposed project.

(2) In determining the quality of the evaluation, the Secretary considers the following factors:

(i) The extent to which the methods of evaluation will provide valid and reliable performance data on relevant outcomes (up to 10 points).

(ii) The extent to which the methods of evaluation include the use of objective performance measures that are clearly related to the intended outcomes of the project and will produce quantitative and qualitative data to the extent possible (up to 10 points).

Note: The project evaluation selection criterion relates to performance measure (1) under the Performance Measures section of this notice.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General. In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For the purposes of the Government Performance and Results Act of 1993 and for Department reporting under 34 CFR 75.110, we have established four performance measures for the NHE program: (1) The number of grantees that attain or exceed the targets for the outcome indicators for their projects that have been approved by the Secretary; (2) the percentage of Native Hawaiian children participating in early education programs who consistently demonstrate school readiness in literacy as measured by the Hawaii School Readiness Assessment (HSRA); (3) the percentage of students in schools served by the program who graduate from high school with a regular high school diploma (as defined in this notice) in four years; and (4) the percentage of students participating in a Native Hawaiian language (as defined in this notice) program that is conducted under the NHE program who meet or exceed proficiency standards in reading on a test of the Native Hawaiian language.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Ian Rosenblum,
Deputy Assistant Secretary for Policy and Programs Delegated the Authority to Perform the Functions and Duties of the Assistant Secretary, Office of Elementary and Secondary Education.

[FR Doc. 2021-11497 Filed 5-27-21; 8:45 am]

BILLING CODE 4000-01-P